DEPARTMENT OF LABOR

Employment and Training Administration

[TA-W-51,523]

Stimson Lumber Company, Arden, WA; Dismissal of Application for Reconsideration

Pursuant to 29 CFR 90.18(C) an application for administrative reconsideration was filed with the Director of the Division of Trade Adjustment Assistance for workers at Stimson Lumber Company, Arden, Washington. The application contained no new substantial information which would bear importantly on the Department's determination. Therefore, dismissal of the application was issued.

TA-W-51,523; Stimson Lumber Company, Arden, Washington (July 17, 2003).

Signed at Washington, DC this 22nd day of July 2003.
Timothy F. Sullivan,
Director, , Division of Trade Adjustment Assistance.

[FR Doc. 03-19858 Filed 8-4-03; 8:45 am]

BILLING CODE 4510-30-P